DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Atlantic Highly Migratory Species Vessel and Gear Marking.

Form Number(s): None.

OMB Approval Number: 0648-0373.

Type of Request: Regular submission.

Burden Hours: 6,995.

Number of Respondents: 6,886.

Average Hours Per Response: Vessel marking, 45 minutes; gear marking, 15 minutes.

Needs and Uses: Under the authority of the Magnuson-Stevens Fishery Conservation and Management Act (codified at 50 CFR 635.6), and in order to comply with United States obligations under the Atlantic Tunas Convention Act, fishing vessels permitted for Atlantic Highly Migratory Species must display their official vessel numbers on their vessels to assist law enforcement in monitoring fishing and other activities. Floatation devices attached to certain fishing gear must also be marked with the vessel's official numbers to identify gear and catch deployed beneath the surface. This is also necessary for law enforcement purposes.

Affected Public: Business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 14, 2008.
Gwellnar Banks,
Management Analyst, Office of the Chief Information Officer.

[FR Doc. E8-19200 Filed 8-19-08; 8:45 am]

BILLING CODE 3510-22-P